DEPARTMENT OF HEALTH AND HUMAN SERVICES

Centers for Disease Control and Prevention

Prospective Grant of Exclusive License: Diagnostics of Fungal Infections

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, limited field of use, co-exclusive license to practice the inventions embodied in the patent and patent applications referred to below to Myconostica, Inc. (Myconostica) having a place of business in Manchester, United Kingdom. CDC intends to grant no more than three licenses to these inventions. The patent rights in these inventions have been assigned to the government of the United States of America. The patent and patent applications to be licensed are:

Title: Nucleic Acids for Detecting Aspergillus Species and Other Filamentous Fungi.

U.S. Patent Application Serial No.: 09/423,233.

Filing Date: 6/27/2000.

Domestic Status: 6,372,430.

Issue Date: 4/16/2002.

Title: Molecular Identification of Aspergillus Species.

U.S. Patent Application Serial No.: 60/381,463.

Filing Date: 5/17/2002.

Domestic Status: Pending.

Issue Date: N/A.

Title: Nucleic Acids for the Identification of Fungi and Methods for Using the Same.

U.S. Patent Application Serial No.: 60/325,241.

Filing Date: 9/26/2001.

Domestic Status: Pending.

Issue Date: N/A.

The prospective exclusive license will be royalty-bearing and will comply with the terms and conditions of 35 U.S.C. 209 and 37 CFR 404.7.

Specific DNA (oligonucleotide) probes have been developed for a wide variety of systemic disease causing fungi, including Aspergillus species and others. A probe has been developed for identification of all dimorphic fungi. These probes can be used for the rapid identification of fungal pathogens and for the diagnosis of mycotic diseases.

ADDRESSES: Requests for a copy of these patent applications, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement will be required to receive a copy of any pending patent application.

Dated: August 31, 2006.
James D. Seligman,
Chief Information Officer, Centers for Disease Control and Prevention.

[FR Doc. E6-14872 Filed 9-7-06; 8:45 am]

BILLING CODE 4163-18-P